DEPARTMENT OF COMMERCE

Foreign-Trade Zones Board

[B-22-2013]

Foreign-Trade Zone 262—Southaven (Desoto County), Mississippi; Notification of Proposed Production Activity; Milwaukee Electric Tool Corporation (Power and Hand Tools); Olive Branch, Greenwood, and Jackson, Mississippi

Northern Mississippi FTZ, Inc., grantee of FTZ 262, submitted a notification of proposed production activity on behalf of Milwaukee Electric Tool Corporation (METC), located in Olive Branch, Greenwood, and Jackson, Mississippi. The notification conforming to the requirements of the regulations of the Board (15 CFR 400.22) was received on February 28, 2013.

A separate application for subzone status at the METC facilities was submitted and will be evaluated under Sections 400.12 and 400.31 of the Board's regulations. The facilities are used for the production and kitting of power and hand tools and related accessories. Pursuant to 15 CFR 400.14(b), FTZ activity would be limited to the specific foreign-status materials and components and specific finished products described in the submitted notification (as described below) and subsequently authorized by the FTZ Board.

Production under FTZ procedures could exempt METC from customs duty payments on the foreign status components used in export production. On its domestic sales, METC would be able to choose the duty rates during customs entry procedures that apply to power and hand tools (duty rate ranges from free to 12.5%) for the foreign status inputs noted below. Customs duties also could possibly be deferred or reduced on foreign status production equipment.

The components and materials sourced from abroad include oil and grease, articles of plastic (tubing, hoses, fittings, fasteners, stoppers, lids), articles of rubber (caps, tubes, hoses, gaskets, seals, guards, boots, covers), articles of leather, felt seals, paper and paperboard labels/seals/gaskets/boxes/containers, printed materials, textile carrying cases, sweatshirts, jackets, gloves and hand warmers of textile materials, articles of fiberglass, fasteners, springs, wire, pins, spacers, guides, copper wire/tubing/fasteners, shovels, axes, pruners, shears, saws and related parts, hand tools, metal brackets/stoppers/sign plates, pumps and related parts, heat guns, filters, machines, presses and related tools, bearings and related parts, parts of transmissions, flywheels, gear boxes, electric motors and generators, batteries, lamps, radios and related equipment, electrical components, printed circuit boards/assemblies, controllers, cameras, coaxial cable, insulated fittings, wheel assemblies, rangefinders, levels, calculating/measuring instruments and related parts, micrometers, gauges, calipers, tape measures, thermometers, pyrometers, barometers and related parts, multi-meters, fork meters, laser levels, test benches, displays, and LED lights (duty rate ranges from free to 28.2%). Inputs included in certain textile categories (classified within HTSUS Subheadings 4202.92, 6101.20, 6101.30, 6201.93, 6201.99, 6202.93, 6202.99, 6216.00, 6217.10 and 6307.90) will be admitted to the proposed subzone under privileged foreign status (19 CFR 146.41) or domestic (duty paid) status (19 CFR 146.43).

Public comment is invited from interested parties. Submissions shall be addressed to the Board's Executive Secretary at the address below. The closing period for their receipt is April 30, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Pierre Duy at Pierre.Duy@trade.gov or (202) 482-1378.

Dated: March 15, 2013.
Andrew McGilvray,
Executive Secretary.

[FR Doc. 2013-06554 Filed 3-20-13; 8:45 am]

BILLING CODE 3510-DS-P